DEPARTMENT OF STATE

[Public Notice: 10525]

Determination Under Section 7070(c)(1) of the Department of State, Foreign Operations, and Related Programs Appropriations Act, 2017 and the Department of State, Foreign Operations, and Related Programs Appropriations Act, 2018 Regarding the Central Government of Syria

Pursuant to section 7070(c)(1) of the Department of State, Foreign Operations, and Related Programs Appropriations Act, 2017 (Div. J, Pub. L. 115-31) and the Department of State, Foreign Operations, and Related Programs Appropriations Act, 2018 (Div. K, Pub. L. 115-141), I hereby determine that the Government of the Syrian Arab Republic has recognized the independence of, or has established diplomatic relations with, the Georgian territories of Abkhazia and Tskhinvali Region/South Ossetia.

This determination shall be published in the Federal Register and on the Department of State website and, along with the accompanying Memorandum of Justification, shall be reported to Congress.

Dated: August 22, 2018.
Michael R. Pompeo,
Secretary of State.

[FR Doc. 2018-18860 Filed 8-29-18; 8:45 am]

BILLING CODE 4710-23-P